COMMITTEE FOR PURCHASE FROM PEOPLE WHO ARE BLIND OR SEVERELY DISABLED

Procurement List; Proposed Deletions

AGENCY: Committee for Purchase From People Who Are Blind or Severely Disabled.

ACTION: Proposed deletions from the procurement list.

SUMMARY: The Committee is proposing to delete product(s) and service(s) from the Procurement List that were furnished by nonprofit agencies employing persons who are blind or have other severe disabilities.

DATES: Comments must be received on or before: October 24, 2021.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s): 6520-00-086-6554—Dental Kit, Child

Designated Source of Supply: North Jersey Friendship House, Inc., Hackensack, NJ

Contracting Activity: DLA TROOP SUPPORT, PHILADELPHIA, PA

NSN(s)—Product Name(s): 6545-01-539-2734—Pouch, First Aid Kit, USMC

Designated Source of Supply: Chautauqua County Chapter, NYSARC, Jamestown, NY

Contracting Activity: COMMANDER, QUANTICO, VA

NSN(s)—Product Name(s): 6545-01-539-2734—Pouch, First Aid Kit, USMC 6545-01-530-9451—Individual First Aid Kit (IFAK), AFSOC, USAF

Designated Source of Supply: Chautauqua County Chapter, NYSARC, Jamestown, NY

Contracting Activity: DLA TROOP SUPPORT, PHILADELPHIA, PA

NSN(s)—Product Name(s): 6545-01-530-9451—Individual First Aid Kit (IFAK), AFSOC, USAF

Designated Source of Supply: Chautauqua County Chapter, NYSARC, Jamestown, NY

Contracting Activity: FA7014 AFDW PK, ANDREWS AFB, MD

Service(s)

Service Type: Janitorial/Custodial

Mandatory for: Air Traffic Control Tower: 6100 E.M. Dirksen Street, NULL, Peoria, IL

Designated Source of Supply: Community Workshop and Training Center, Inc., Peoria, IL

Contracting Activity: TRANSPORTATION, DEPARTMENT OF, DEPT OF TRANS

Michael R. Jurkowski,
Acting Director, Business Operations.

[FR Doc. 2021-20758 Filed 9-23-21; 8:45 am]

BILLING CODE 6353-01-P